NUCLEAR REGULATORY COMMISSION

10 CFR Part 72

RIN 3150-AH93

List of Approved Spent Fuel Storage Casks: NUHOMS®HD Addition; Withdrawal of Direct Final Rule

AGENCY: U.S. Nuclear Regulatory Commission.

ACTION: Direct final rule; withdrawal.

SUMMARY: The U.S. Nuclear Regulatory Commission (NRC) is withdrawing a direct final rule that would have added the Transnuclear, Inc., NUHOMS®HD cask system to the “List of Approved Spent Fuel Storage Casks” to add Certificate of Compliance No. 1030. The NRC is taking this action because it has received significant adverse comments in response to an identical proposed rule which was concurrently published with the direct final rule.

DATES: The final rule published on May 2, 2006 (71 FR 25740) is withdrawn effective July 13, 2006.

FOR FURTHER INFORMATION CONTACT: Jayne M. McCausland, Office of Nuclear Material Safety and Safeguards, U.S. Nuclear Regulatory Commission, Washington, DC 20555, telephone (301) 415-6219 (e-mail: jmm2@nrc.gov).

SUPPLEMENTARY INFORMATION: On May 2, 2006 (71 FR 25740), the NRC published in the Federal Register a direct final rule amending its regulations in 10 CFR 72.214 to add the Transnuclear, Inc., NUHOMS® HD cask system listing within the “List of Approved Spent Fuel Storage Casks” to add Certificate of Compliance No. 1030. Holders of power reactor operating licenses would have been allowed to store spent fuel in the NUHOMS®HD cask system under a general license. The direct final rule was to become effective on July 17, 2006. The NRC also concurrently published an identical proposed rule on May 2, 2006 (71 FR 25782).

In the May 2, 2006, direct final rule, NRC stated that if any significant adverse comments were received, a notice of timely withdrawal of the direct final rule would be published in the Federal Register. As a result, the direct final rule would not take effect.

The NRC received significant adverse comments on the direct final rule; therefore, the NRC is withdrawing the direct final rule. As stated in the May 2, 2006, direct final rule, NRC will address the comments received on the May 2, 2006, companion proposed rule in a subsequent final rule. The NRC will not initiate a second comment period on this action.

Dated at Rockville, Maryland, this 28th day of June, 2006.
For the Nuclear Regulatory Commission.
Luis A. Reyes,
Executive Director for Operations.

[FR Doc. E6-11027 Filed 7-12-06; 8:45 am]

BILLING CODE 7590-01-P